DEPARTMENT OF HEALTH AND HUMAN SERVICES

Centers for Disease Control and Prevention

[30Day-21-20QS]

Agency Forms Undergoing Paperwork Reduction Act Review

In accordance with the Paperwork Reduction Act of 1995, the Centers for Disease Control and Prevention (CDC) has submitted the information collection request titled “Proposed Data Collection Multi-Site Clinical Assessment of Myalgic Encephalomyelitis/Chronic Fatigue Syndrome (MCAM)” to the Office of Management and Budget (OMB) for review and approval. CDC previously published a 60-day notice titled “Proposed Data Collection Submitted for Public Comment and Recommendations” on August 3, 2020 to obtain comments from the public and affected agencies. CDC received three comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain. Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

Multi-Site Clinical Assessment of Myalgic Encephalomyelitis/Chronic Fatigue Syndrome (MCAM)—Existing collection in use without an OMB Control Number—National Center for Emerging and Zoonotic Infectious Diseases (NCEZID), Centers for Disease Control and Prevention (CDC).

Background and Brief Description

This Multi-site Clinical Assessment of Myalgic Encephalomyelitis/Chronic Fatigue Syndrome (MCAM) study uses a standardized approach for data collection to examine the heterogeneity of patients with Myalgic Encephalomyelitis/Chronic Fatigue Syndrome (ME/CFS) using a clinical epidemiologic longitudinal study with a retrospective and prospective rolling cohort design. The study also aims to address the issue of ME/CFS case definition and improve measures of illness domains by using evidence-based data from multiple clinical practices in the United States. Healthy adults and those with illnesses that share some features with ME/CFS were enrolled in comparison groups. Children and adolescents with ME/CFS and healthy participants were also enrolled.

The MCAM study has been conducted in multiple stages following multiple study protocols. The time burden estimates are based on the 2012-2019 data collection, which is the most recent stage of data collection completed.

Estimated Annualized Burden Hours
Type of respondents | Form name | Number of participants | Number of responses per participant | Average burden per response (in hrs.)
Adult | CDC Symptom Inventory (CDC-SI)/Form A | 45 | 1 | 12/60
Adult | CDC Symptom Inventory (CDC-SI)/Form B | 20 | 1 | 10/60
Adult | CDC Symptom Inventory (CDC-SI) | 20 | 1 | 8/60
Adult | Short Form CDC-SI/Checklist | 85 | 1 | 10/60
Adult | Medical Outcomes Study Short Form 36 | 85 | 1 | 7/60
Adult | Multidimensional Fatigue Inventory (MFI-20) | 85 | 1 | 5/60
Adult | DePaul Symptom Questionnaire (DSQ) | 45 | 1 | 24/60
Adult | DSQ, 26 selected questions | 65 | 1 | 12/60
Adult | DSQ, 18 selected questions | 85 | 1 | 6/60
Adult | PROMIS Short Form (PROMIS SF—Fatigue, SD, SRI, PB, PI) & Sleep Data Collection Form | 85 | 1 | 5/60
Adult | PROMIS SF—Fatigue, SD, SRI, PB, PI | 85 | 1 | 4/60
Adult | Brief Pain Inventory (BPI) | 85 | 1 | 13/60
Adult | Patient Health Questionnaire (PHQ-8), Generalized Anxiety Disorder (GAD-7), CDC Health-Related Quality of Life (HRQoL-4) | 85 | 1 | 10/60
Adult | CDC HRQoL-4 | 85 | 1 | 3/60
Adult | CDC HRQoL-4 with activity limitation questions | 85 | 1 | 4/60
Adult | Self-Rating Depression Scale (SDS) | 45 | 1 | 7/60
Adult | Illness Impact Questionnaire | 85 | 1 | 3/60
Adult | Saliva Data Collection Sheet | 85 | 1 | 5/60
Adult | Orthostatic Grading Scale (OGS) | 85 | 1 | 3/60
Adult | COMPosite Autonomic Symptom Score 31 (COMPASS-31) | 85 | 1 | 5/60
Adult | CDC Symptom Inventory (CDC-SI)/Form A | 24 | 1 | 42/60
Adult | CDC Symptom Inventory (CDC-SI)/Form B | 30 | 1 | 20/60
Adult | CDC Symptom Inventory (CDC-SI) | 15 | 1 | 10/60
Adult | Short Form CDC-SI/Checklist | 69 | 1 | 20/60
Adult | Medical Outcomes Study Short Form 36 | 69 | 1 | 17/60
Adult | Multidimensional Fatigue Inventory (MFI-20) | 69 | 1 | 10/60
Adult | DePaul Symptom Questionnaire (DSQ) | 24 | 1 | 36/60
Adult | DSQ, 26 selected questions | 45 | 1 | 18/60
Adult | DSQ, 18 selected questions | 69 | 1 | 20/60
Adult | PROMIS Short Form (PROMIS SF—Fatigue, SD, SRI, PB, PI) & Sleep Data Collection Form | 24 | 1 | 6/60
Adult | PROMIS SF—Fatigue, SD, SRI, PB, PI | 69 | 1 | 5/60
Adult | Brief Pain Inventory (BPI) | 24 | 1 | 13/60
Adult | Patient Health Questionnaire (PHQ-8), Generalized Anxiety Disorder (GAD-7), CDC Health-Related Quality of Life (HRQoL-4) | 24 | 1 | 10/60
Adult | CDC HRQoL-4 | 69 | 1 | 4/60
Adult | CDC HRQoL-4 with activity limitation questions | 69 | 1 | 7/60
Adult | Self-Rating Depression Scale (SDS) | 24 | 1 | 7/60
Adult | Illness Impact Questionnaire | 69 | 1 | 3/60
Adult | Saliva Data Collection Sheet | 69 | 1 | 5/60
Adult | Orthostatic Grading Scale (OGS) | 69 | 1 | 5/60
Adult | COMPosite Autonomic Symptom Score 31 (COMPASS-31) | 69 | 1 | 7/60
Pediatric | CDC Symptom Inventory: For Baseline Subjects Pediatrics | 36 | 1 | 8/60
Pediatric | CDC Symptom Inventory: For the Follow-Up Subjects Pediatrics | 29 | 1 | 6/60
Pediatric | SF-36 Health Survey | 64 | 1 | 5/60
Pediatric | Multidimensional Fatigue Inventory (MFI-20) | 64 | 1 | 2/60
Pediatric | Selected Questions from DePaul Pediatric Health Questionnaire (DPHQ), 19 Questions | 64 | 1 | 5/60
Pediatric | PROMIS Pediatric Instruments (Fatigue & Pain) | 64 | 1 | 2/60
Pediatric | Pediatric Pain Questionnaire (PPQ) | 64 | 1 | 7/60
Pediatric | Visual Analogue Scale | 64 | 1 | 6/60
Pediatric | Hospital Anxiety and Depression Scale | 64 | 1 | 5/60
Pediatric | Pediatric Daytime Sleepiness Scale | 64 | 1 | 2/60
Pediatric | Social Participation Form Pediatric | 64 | 1 | 7/60
Pediatric | Sociability Form | 64 | 1 | 3/60
Pediatric | Saliva Collection Form | 64 | 1 | 5/60
Pediatric | CDC Symptom Inventory: For Baseline Subjects Pediatrics | 3 | 1 | 20/60
Pediatric | CDC Symptom Inventory: For the Follow-Up Subjects Pediatrics | 3 | 1 | 9/60
Pediatric | SF-36 Health Survey | 3 | 1 | 9/60
Pediatric | Multidimensional Fatigue Inventory (MFI-20) | 3 | 1 | 7/60
Pediatric | Selected Questions from DePaul Pediatric Health Questionnaire (DPHQ), 19 Questions | 3 | 1 | 10/60
Pediatric | PROMIS Pediatric Instruments (Fatigue & Pain) | 3 | 1 | 3/60
Pediatric | Pediatric Pain Questionnaire (PPQ) | 3 | 1 | 15/60
Pediatric | Visual Analogue Scale | 3 | 1 | 8/60
Pediatric | Hospital Anxiety and Depression Scale | 3 | 1 | 7/60
Pediatric | Pediatric Daytime Sleepiness Scale | 3 | 1 | 3/60
Pediatric | Social Participation Form Pediatric | 3 | 1 | 10/60
Pediatric | Sociability Form | 3 | 1 | 5/60
Pediatric | Saliva Collection Form | 3 | 1 | 5/60
Adult | CogState Practice Section | 109 | 1 | 17/60
Adult | CogState Baseline Section | 109 | 1 | 27/60
Adult | WAIS IV DS F+B, TOPF | 109 | 1 | 10/60
Adult | Exercise (Bike) Testing | 64 | 1 | 30/60
Adult | CogState Time 1 Section | 109 | 1 | 22/60
Adult | CogState Time 2 Section | 109 | 1 | 12/60
Adult | CogState Time 3 Section | 109 | 1 | 12/60
Adult | CogState Time 4 Section | 109 | 1 | 12/60
Adult | Visual Analogue Scale for CFS Symptoms | 60 | 1 | 8/60
Adult | EQ-5D-Y Health Questionnaire | 60 | 1 | 6/60
Adult | PROMIS SF v1—Physical Function | 60 | 1 | 5/60
Adult | Physical Fitness and Exercise Activity Levels of Scale | 60 | 1 | 2/60
Adult | International Physical Activity Questionnaire (Self-Administered Long Form) | 60 | 1 | 5/60
Adult | Physical Activity Readiness Questionnaire | 60 | 1 | 5/60
Adult | Visual Analogue Scale for CFS Symptoms | 49 | 1 | 8/60
Adult | EQ-5D-Y Health Questionnaire | 49 | 1 | 6/60
Adult | PROMIS SF v1—Physical Function | 49 | 1 | 5/60
Adult | Physical Fitness and Exercise Activity Levels of Scale | 49 | 1 | 2/60
Adult | International Physical Activity Questionnaire (Self-Administered Long Form) | 49 | 1 | 5/60
Adult | Physical Activity Readiness Questionnaire | 49 | 1 | 5/60

Jeffrey M. Zirger,
Lead, Information Collection Review Office, Office of Scientific Integrity, Office of Science, Centers for Disease Control and Prevention.

[FR Doc. 2021-01914 Filed 1-27-21; 8:45 am]

BILLING CODE 4163-18-P